DEPARTMENT OF THE INTERIOR

Bureau of Land Management

[ES-960-1910-BJ-4377; ES-50671, Group 154, Minnesota]

Notice of Filing of Plat of Survey; Minnesota

The plat of the dependent resurvey of portions of the south, east and north boundaries, portions of the subdivisional lines, the survey of the subdivision of sections 1 through 4, 6, 7, 9 through 21, 23 through 28, and 30 through 36, the reestablishment of the record meander line in sections 2, 3, 4, 11, 18, 23 and 34, and the metes-and-bounds survey in section 34, Township 143 North, Range 39 West, 5th Principal Meridian, Minnesota, will be officially filed in Eastern States, Springfield, Virginia at 7:30 a.m., on June 19, 2000.

The survey was requested by the Bureau of Indian Affairs.

All inquiries or protests concerning the technical aspects of the survey must be sent to the Chief Cadastral Surveyor, Eastern States, Bureau of Land Management, 7450 Boston Boulevard, Springfield, Virginia 22153, prior to 7:30 a.m., June 19, 2000.

Copies of the plat will be made available upon request and prepayment of the appropriate fee.

Dated: May 4, 2000.
Stephen G. Kopach,
Chief Cadastral Surveyor.

[FR Doc. 00-12479 Filed 5-17-00; 8:45 am]

BILLING CODE 4310-GJ-P